DEPARTMENT OF ENERGY

Federal Energy Regulatory Commission

Combined Notice of Filings #2

Take notice that the Commission received the following electric rate filings:

Docket Numbers: ER10-2719-010; ER10-2718-010; ER10-2578-012; ER10-2633-010; ER10-2570-010; ER10-2717-010; ER10-3140-009.

Applicants: East Coast Power Linden Holding, L.L.C., Cogen Technologies Linden Venture, L.P., Fox Energy Company LLC, Birchwood Power Partners, L.P., Shady Hills Power Company, L.L.C., EFS Parlin Holdings, LLC, Inland Empire Energy Center, LLC.

Description: Notice of Non-Material Change in Status of East Coast Power Linden Holding, L.L.C., et al.

Filed Date: 11/6/12.

Accession Number: 20121106-5075.

Comments Due: 5 p.m. ET 11/27/12.

Docket Numbers: ER12-2694-001.

Applicants: Northern States Power Company, a Minnesota corporation, Northern States Power Company, a Wisconsin corporation.

Description: Northern States Power Company, a Minnesota corporation submits tariff filing per: 20121106 Modified Transmittal Ltr to be effective N/A.

Filed Date: 11/6/12.

Accession Number: 20121106-5055.

Comments Due: 5 p.m. ET 11/27/12.

Docket Numbers: ER12-2696-000.

Applicants: Southwestern Public Service Company.

Description: Southwestern Public Service Company submits tariff filing per: 11-6-12_SPS MBR-Supp Filing to be effective N/A.

Filed Date: 11/6/12.

Accession Number: 20121106-5043.

Comments Due: 5 p.m. ET 11/27/12.

Docket Numbers: ER13-28-001.

Applicants: Chesapeake Renewable Energy LLC.

Description: Chesapeake Renewable Energy LLC submits tariff filing per 35.17(b): Amendment of Pending Filing 1 to be effective 12/1/2012.

Filed Date: 11/6/12.

Accession Number: 20121106-5002.

Comments Due: 5 p.m. ET 11/27/12.

Docket Numbers: ER13-81-001.

Applicants: Frontier Utilities New York LLC.

Description: Frontier Utilities New York LLC submits tariff filing per 35.17(b): Amendment of Pending Filing 1 to be effective 10/12/2012.

Filed Date: 11/6/12.

Accession Number: 20121106-5034.

Comments Due: 5 p.m. ET 11/27/12.

Docket Numbers: ER13-320-000.

Applicants: Southern California Edison Company.

Description: Southern California Edison Company submits tariff filing per 35.13(a)(2)(iii: Amended IFA with Cabazon Wind Partners, LLC to be effective 1/6/2013.

Filed Date: 11/6/12.

Accession Number: 20121106-5001.

Comments Due: 5 p.m. ET 11/27/12.

Docket Numbers: ER13-321-000.

Applicants: Fairless Energy, LLC.

Description: Fairless Energy, LLC submits tariff filing per 35.1: New Baseline and Amended Single Market-Based Rate Tariff to be effective 11/6/2012.

Filed Date: 11/5/12.

Accession Number: 20121105-5155.

Comments Due: 5 p.m. ET 11/26/12.

Take notice that the Commission received the following qualifying facility filings:

Docket Numbers: QF13-69-000.

Applicants: Calgren Renewable Fuels, LLC.

Description: Form 556—Notice of Self-certification of Qualifying Cogeneration Facility Status of Calgren Renewable Fuels, LLC.

Filed Date: 11/5/12.

Accession Number: 20121105-5029.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 6, 2012.
Nathaniel J. Davis, Sr.,
Deputy Secretary.

[FR Doc. 2012-27615 Filed 11-13-12; 8:45 am]

BILLING CODE 6717-01-P